Title 3—

The President

Proclamation 8504 of April 26, 2010

Death of Dorothy Height

By the President of the United States of America

A Proclamation

As a mark of respect for the memory of Dorothy Height, I hereby order, by the authority vested in me by the Constitution and the laws of the United States of America, that, on the day of her interment, the flag of the United States shall be flown at half-staff at the White House and upon all public buildings and grounds, at all military posts and naval stations, and on all naval vessels of the Federal Government in the District of Columbia and throughout the United States and its Territories and possessions until sunset on such day. I further direct that the flag shall be flown at half-staff for the same period at all United States embassies, legations, consular offices, and other facilities abroad, including all military facilities and naval vessels and stations.

IN WITNESS WHEREOF, I have hereunto set my hand this twenty-sixth day of April, in the year of our Lord two thousand ten, and of the Independence of the United States of America the two hundred and thirty-fourth.

[FR Doc. 2010-10248

Filed 4-29-10; 8:45 am]

Billing code 3195-W0-P